DEPARTMENT OF AGRICULTURE

Forest Service

Pacific Northwest National Scenic Trail Advisory Council

AGENCY: Forest Service, USDA.

ACTION: Renewal of the Pacific Northwest National Scenic Trail Advisory Council.

SUMMARY: The United States Department of Agriculture (USDA) intends to renew the Pacific Northwest National Scenic Trail Advisory Council (Council). In accordance with provisions of the National Trails System Act of 1968, and the Federal Advisory Committee Act (FACA), the Council is being renewed to provide advice and recommendations to the Secretary of Agriculture (Secretary) during the development of the Comprehensive Management Plan for the Pacific Northwest National Scenic Trail (Trail) including the nature and purposes of the Trail, objectives and practices for the Trail, standards for the erection and maintenance of markers along the Trail, and other matters related to the administration of the Trail. Additional information concerning the Council can be found by visiting the Council's website at: https://www.fs.usda.gov/main/pnt/working-together/advisory-committees.

FOR FURTHER INFORMATION CONTACT: Becky Blanchard, Pacific Northwest National Scenic Trail Administrator, Pacific Northwest Region—USDA Forest Service, by phone at 503-808-2449 or by email at becky.blanchard@usda.gov. Individuals who use telecommunication devices for the deaf (TDD) may call the Federal Information Relay Service (FIRS) at 1-800-877-8339 between 8 a.m. and 5 p.m., Eastern Standard Time, Monday through Friday.

SUPPLEMENTARY INFORMATION:

Background

Pursuant with the provisions of FACA, the Secretary intends to renew the Council to continue providing advice and recommendations on matters related to the Pacific Northwest National Scenic Trail (Trail). The Council consists of approximately 25 members (not more than 35) to represent interests as required by the National Trails System Act. The purpose of the Council is to provide advice on the nature and purposes of the Trail, objectives and practices for the Trail, standards for the erection and maintenance of markers along the Trail, and other matters related to the administration of the Trail.

Advisory Committee Organization

The Council shall be comprised of 25 members, not more than 35 members and approved by the Secretary of Agriculture where each will serve a 2-year term, although appointments shall have staggered terms. The Council membership will be fairly balanced in terms of the points of view represented and functions to be performed. A designated Federal employee, in accordance with Sections 10(e) and (f) of the FACA regulations, will serve as the Designated Federal Officer (DFO). Non-Federal members of the Council shall serve without pay, but will be reimbursed for reasonable costs incurred while performing duties on behalf of the Council, subject to approval by the DFO. The Council shall include representation from experts in the following interest areas:

(1) The head of each Federal department or independent agency administering lands through which the trail route passes, or his designee;

(2) a member appointed to represent each State through which the trail passes, and such appointments shall be made from recommendations of the Governors of such States;

(3) one or more members appointed to represent private organizations, including corporate and individual landowners and land users, which in the opinion of the Secretary, have an established and recognized interest in the trail. These members may represent social, environmental, or economic organizations; and

(4) one or more members appointed to represent tribal interests.

Of these members, one will become the Chairperson who is recognized for their ability to lead a group in a fair and focused manner and who has been briefed on the mission of this Council. The Council will meet on an annual basis or as needed. This will be determined by the Council. Meetings are open to the public and may include a “public forum” that may offer 5-10 minutes for participants to present comments to the Council. A meeting notice will be published in the Federal Register 15 to 45 days before a scheduled meeting date. Vacancies will filled in the manner in which the original appointment was made. To ensure that the recommendations of the Council have taken into account the needs of diverse groups served by USDA, membership shall, to the extent practicable, include individuals with demonstrated ability to represent all racial and ethnic groups, women and men, and persons with disabilities.

Dated: September 25, 2019.
Cikena Reid,
USDA Committee Management Officer.

[FR Doc. 2019-21819 Filed 10-4-19; 8:45 am]

BILLING CODE 3411-15-P